DEPARTMENT OF ENERGY

Federal Energy Regulatory Commission

[Docket No. CP01-422-003]

Kern River Gas Transmission Company; Notice of Application To Amend Certificate of Public Convenience and Necessity

Issued: October 23, 2002.

On October 15, 2002, Kern River Gas Transmission Company (Kern River), 295 Chipeta Way, Salt Lake City, Utah, 84108, filed an application in Docket No. CP01-422-003 pursuant to Section 7c of the Natural Gas Act (NGA) and Subpart A of Part 157 of the Rules of Practice and Procedure of the Federal Energy Regulatory Commission (Commission), for an amended certificate of public convenience and necessity authorizing Kern River to install and operate modified compressor facilities for its 2003 Expansion Project, for which an Order Denying Rehearing and Issuing Certificate (Order) was issued on July 17, 2002 in Docket No. CP01-422-000, all as more fully set forth in the application which is on file with the Commission and open to public inspection. This filing is available for review at the Commission in the Public Reference Room or may be viewed on the Commission's Web site at http://www.ferc.gov using the “FERRIS” link.

Enter the docket number excluding the last three digits in the docket number field to access the document. For Assistance, call (202) 502-8222 or for TTY, (202) 502-8659.

Kern River states that the Order authorized Kern River to construct and operate additional facilities needed to expand its transportation capacity from Opal, Wyoming to delivery points primarily in California. At its existing Muddy Creek Compressor Station, located in Lincoln County, Wyoming, Kern River states that it was authorized to install two additional Solar Mars 100 SoLoNox turbine-driven centrifugal compressor units (15,000 ISO horsepower each) and to upgrade an existing Solar Mars 100 compressor unit that is currently derated to a Mars 90 equivalent with 13,000 ISO horsepower. According to Kern River, upgrading the existing unit to the full 15,000 ISO horsepower rating of a Mars 100 compressor unit was to have been accomplished through control software changes.

Instead of upgrading the existing derated unit, Kern River states that it is now proposing to replace it with a different Mars 100 compressor unit equipped with an Augmented Backside Cooled (ABC) combustor liner that is expected by its manufacturer, Solar Turbine

Inc. (Solar), to significantly reduce pollutant emissions. The replacement compressor unit would be installed as part of a Solar research and development project and would be provided at no additional cost to Kern River. The replacement unit would have exactly the same horsepower as the derated unit would have had after being upgraded as part of the Kern River 2003 expansion project.

Kern River states that it is requesting authorization by no later than January 1, 2003, so that the proposed modification may be incorporated into Kern River's 2003 Expansion Project, which is scheduled to be completed and in-service by May 1, 2003.

Any questions regarding this application may be directed to Billie L. Tolman, Manager, Tariffs & Certificates, Kern River Gas Transmission Company, P. O. Box 582000, Salt Lake City, Utah 84158-2000, at (801) 584-6976.

There are two ways to become involved in the Commission's review of this project. First, any person wishing to obtain legal status by becoming a party to the proceedings for this project should, on or before November 13, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. The Commission strongly encourages electronic filings. See, 18 CFR 385.2001(a)(1)(iii) and instructions on Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-27409 Filed 10-28-02; 8:45 am]

BILLING CODE 6717-01-P